DEPARTMENT OF THE INTERIOR

National Park Service

[NPS-PWR-PWRO-12506; PPPWNOCAN0—PPMRSNR1Z.y00000]

Notice of Approval of Record of Decision for Stehekin River Corridor Implementation Plan, Lake Chelan National Recreation Area, North Cascades National Park Service Complex, Washington

AGENCY: National Park Service, Interior.

ACTION: Notice of Record of Decision.

SUMMARY: Pursuant to § 102(2)(C) of the National Environmental Policy Act of 1969 (Pub. L. 91-190, as amended) and the regulations promulgated by the Council on Environmental Quality (40 CFR part 1505.2), the Department of the Interior, National Park Service (NPS), in collaboration with the Federal Highway Administration, prepared the Final Environmental Impact Statement (Final EIS) for the Stehekin River Corridor Implementation Plan (CIP). The requisite no-action “wait period” was initiated on October 12, 2012, with the Environmental Protection Agency's Federal Register notice of the filing of the Final EIS.

Decision: The NPS has selected Alternative 5, identified as “preferred” in the Final EIS, and will implement it as the approved Stehekin River CIP. The CIP will allow water from large floods to occupy more of the floodplain (within the channel migration zone), thereby reducing flooding severity in any one location. Also included in the approved CIP is the relocation of approximately two miles of the Stehekin Valley Road, removal of park facilities out of the floodplain, improvements in recreational trail and camping opportunities, and revision of the park's Land Protection Plan criteria used to determine willing owner land exchange and acquisition priorities (based on threats to the most vulnerable areas).

Four other alternatives were evaluated, the full range of foreseeable environmental consequences was assessed, and appropriate mitigation measures were identified. The selected alternative was deemed to be the “environmentally preferred” course of action.

Interested parties desiring to review the Record of Decision may obtain a copy by contacting the Superintendent, North Cascades National Park Service Complex, 810 State Route 20, Sedro-Woolley, WA 94123 or via telephone request at (360) 854-7200.

Dated: March 14, 2013.
Christine S. Lehnertz,
Regional Director, Pacific West Region.

[FR Doc. 2013-17781 Filed 7-23-13; 8:45 am]

BILLING CODE 4312-FF-P